ENVIRONMENTAL PROTECTION AGENCY

[EPA-HQ-OPP-2019-0511; FRL-10002-72]

Pesticide Maintenance Fee; Product Cancellation Order for Certain Pesticide Registrations

AGENCY: Environmental Protection Agency (EPA).

ACTION: Notice.

SUMMARY: This notice announces EPA's order for the cancellations, voluntarily requested by the registrants and accepted by the Agency, of the products listed in Table 1 of Unit III., pursuant to the Federal Insecticide, Fungicide, and Rodenticide Act (FIFRA).

DATES: The cancellations are effective February 4, 2020.

FOR FURTHER INFORMATION CONTACT: Michael Yanchulis, Information Technology and Resources Management Division (7502P), Office of Pesticide Programs, Environmental Protection Agency, 1200 Pennsylvania Ave. NW, Washington, DC 20460-0001; telephone number: (703) 347-0237; email address: yanchulis.michael@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2019-0511, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

This cancellation order follows a September 23, 2019 Federal Register (84 FR 49729) (FRL-9999-06). Notice of Receipt of Requests from the registrants listed in Table 2 of Unit III. to voluntarily cancel these product registrations. In the September 23, 2019 notice, EPA indicated that it would issue an order implementing the cancellations, unless the Agency received substantive comments within the 30-day comment period that would merit its further review of these requests, or unless the registrants withdrew their requests. The Agency received one comments on the September 23, 2019 notice. The comment was a request from FMC Corporation to withdraw two cancellation requests for registration numbers WA070015 WA070017 which now will be retained. The registration numbers below were listed in the September 23, 2019 notice, but were listed in another request to cancel the FR Notice, so are not listed in this notice. The FR Notice and EPA Reg. Numbers are: Federal Register of August 21, 2019 (84 FR 43593; FRL-9996-82): EPA Reg. Nos. 100-1083, 1258,161, 1258-162, 1258-974, 1258-1064, 1258-1171, 1258-1218, 1258-1240, 1258-1281, 1258-1333, 1258-1348, 1258-1356, 1258-1357, 1258-1360, 1258-1362, 5185-459, 47371-191, 70627-69, 70627-73, OR980006 and WY080001 and September 30, 2019 (84 FR 51561; FRL-9999-39): EPA Reg. No. 6836-177. Accordingly, EPA hereby issues in this notice a cancellation order granting the requested cancellations. Any distribution, sale, or use of the products subject to this cancellation order is permitted only in accordance with the terms of this order, including any existing stocks provisions.

Section 4(i)(5) of FIFRA (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2019, maintenance fees were collected in one billing cycle. In December of 2018, all holders of either FIFRA section 3 registrations or FIFRA section 24(c) registrations were sent lists of their active registrations, along with forms and instructions for responding. They were asked to identify which of their registrations they wished to maintain in effect, and to calculate and remit the appropriate maintenance fees. Most responses were received by the statutory deadline of January 15, 2019. A notice of intent to cancel was sent in June of 2019 to companies who did not respond and to companies who responded but paid for less than all their registrations. Since mailing the notices of intent to cancel, EPA has maintained a toll-free inquiry number through which the questions of affected registrants have been answered.

In fiscal year 2019, the Agency has waived the fee for 330 minor agricultural use registrations at the request of the registrants. Maintenance fees have been paid for about 16,795 FIFRA section 3 registrations, or about 97% of the registrations on file in October 2018. Fees have been paid for about 1,826 FIFRA section 24(c) registrations, or about 85% of the total on file in October 2018. Cancellations for non-payment of the maintenance fee affect 177 FIFRA section 3 registrations and 2 FIFRA section 24(c) registrations. These cancellations can be found in Table 3 below. Cancellations for companies paying the fee at one of the capped payment amounts are considered voluntary cancellations since the registration could be maintained without an additional fee payment. These cancellations are subject to a 30-day comment period and are listed in Table 1 below.

The cancellation orders generally permit registrants to continue to sell and distribute existing stocks of the canceled products until January 15, 2020, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. What action is the Agency taking?

This notice announces the cancellation, as requested by registrant, of products registered under FIFRA section 3 (7 U.S.C. 136a). These registrations are listed in sequence by registration number in Table 1 of this unit.

Table 1—Product Cancellations
Registration No. | Company No. | Product name
100-1164 | 100 | Amistar Fungicide.
100-1356 | 100 | Syn-AI7227.
264-976 | 264 | Raxil MD Extra Fungicide.
264-997 | 264 | Raxil MD Extra W Seed Treatment.
264-1000 | 264 | RTU-Trifloxystrobin-Metalaxyl Flowable Fungicide.
264-1034 | 264 | Prosper T400 Insecticide and Fungicide Seed Treatment.
400-486 | 400 | Mefenoxam 2EC Fungicide.
400-597 | 400 | Annihilate LV.
400-598 | 400 | Annihilate SP.
432-875 | 432 | AEH 315 Manufacturing Concentrate.
432-1477 | 432 | Prostar 70 WDG Fungicide.
707-312 | 707 | Rocima 80.
1015-72 | 1015 | Roo-Pru Super Tri Pak.
1258-1323 | 1258 | Arch OIT 45.
1381-209 | 1381 | Quinclorac 75 DF.
1381-234 | 1381 | Nicosulfuron 75%.
1381-235 | 1381 | Metsulfuron Methyl 60% Herbicide.
2792-61 | 2792 | Decco 240 Liquid Chlorine.
3008-60 | 3008 | ACC 50% Wood Preservative.
3008-86 | 3008 | Copper MEA Solution.
3008-90 | 3008 | ORD-X372.
3008-94 | 3008 | ORD-X280.
3008-103 | 3008 | CMC 9.0 Wood Preservative.
3008-104 | 3008 | Sustain 20CQ.
3008-105 | 3008 | Sustain 20T.
3008-106 | 3008 | Sustain 20.
3008-107 | 3008 | Everlast CA-B.
3008-108 | 3008 | Sustain 25 Antimicrobial.
3008-109 | 3008 | Sustain 25T.
3008-113 | 3008 | ORD-X380.
3008-118 | 3008 | ORD-X042.
3008-119 | 3008 | FIM 3.
3282-112 | 3282 | D-CON Farm, Ranch & Home.
3282-114 | 3282 | D-CON Bait Station XV.
4822-36 | 4822 | Johnson Buggy Whip Airborne Bug Killer.
4822-220 | 4822 | Raid Indoor Fogger Formula IV.
4822-388 | 4822 | S.C. Johnson Wax Raid Flea Killer Plus VIII Egg Stop Formula.
4822-473 | 4822 | Raid Ant & Roach Killer 16.
4822-563 | 4822 | PC-GI-08.
5383-89 | 5383 | Homeguard.
5383-117 | 5383 | Polyphase 612.
5383-140 | 5383 | Polyphase 710S.
5383-152 | 5383 | Polyphase 853CR.
5383-153 | 5383 | Polyphase 863CR.
5383-187 | 5383 | Fungitrol 10 LC.
5481-513 | 5481 | Discipline GC Granular Insecticide.
5481-514 | 5481 | Discipline 2EC Insecticide/Miticide.
5481-515 | 5481 | Discipline Flowable Insecticide/Miticide.
5481-516 | 5481 | Wisdom TC Flowable Termiticide/Insecticide.
7969-105 | 7969 | Polyram 80 DF.
7969-321 | 7969 | Cabrio Plus Fungicide.
9198-172 | 9198 | Anderson's Weedgrass Preventer.
9779-353 | 9779 | Terronate WDG.
10163-301 | 10163 | Moncut 70-DF.
10163-320 | 10163 | Moncoat MZ.
10404-67 | 10404 | Lesco 1% Dursban Granular Bait.
33270-35 | 33270 | Glufosinate 280 Herbicide.
61842-17 | 61842 | M-98-A10 Crop Protectant.
61842-19 | 61842 | Manufacturing Use Product.
61842-36 | 61842 | Carbaryl 97.5% Manufacturing Use Concentrate Insecticide.
66222-107 | 66222 | Chief 3SC Herbicide.
66222-168 | 66222 | Ecomazapyr 2SL.
66222-178 | 66222 | Picket TM Herbicide.
66222-179 | 66222 | Involve TM Herbicide.
66222-183 | 66222 | Adapt Herbicide.
70299-1 | 70299 | Zerotol Algaecide/Fungicide.
70299-2 | 70299 | Oxidate Broad Spectrum Bactericide/Fungicide.
70299-5 | 70299 | Terracide Broad Spectrum Bactericide/Fungicide.
70299-6 | 70299 | Greenclean Pro Granular Algaecide/Fungicide.
70299-8 | 70299 | Sanidate 12.0 Microbiocide.
70299-11 | 70299 | Sanidate 5.0 Sanitizer.
73049-9 | 73049 | Devine Mycoherbicide.
74849-3 | 74849 | Ultima Platinum Plus.
81824-2 | 81824 | Maxxthor Golf CG.
82957-5 | 82957 | Abamectin Technical.
83222-8 | 83222 | Mighty Met 60 DF Herbicide.
83222-25 | 83222 | Bighorn DF Herbicide.
83222-26 | 83222 | Cherokee DF Herbicide.
83222-27 | 83222 | Cherokee Extra DF Herbicide.
83222-28 | 83222 | Unite Broadspectrum Herbicide.
83222-29 | 83222 | Unite Tankmix Herbicide.
83222-35 | 83222 | Pendimethalin 3.3 EC.
83923-1 | 83923 | Bithor SC GC.
83923-3 | 83923 | Prothor SC 0.5.
83923-5 | 83923 | Turfthor 2F.
83923-9 | 83923 | Turfthor 2.5G.
83923-10 | 83923 | Turfthor 0.5 G.
83923-13 | 83923 | Bithor XT.
85685-1 | 85685 | Fourstar SBG.
89168-55 | 89168 | Liberty Bioact.
90330-1 | 90330 | Dicamba Technical.
90745-1 | 90745 | Root Gatorx.
AL080001 | 279 | Brigade 2EC Insecticide/Miticide.
AL110003 | 100 | Subdue Maxx.
AL140001 | 100 | Micora.
AL170002 | 7969 | Engenia Herbicide.
AR870005 | 400 | Dimilin 25W for Cotton/Soybean.
AZ070003 | 66222 | Vegetable Pro Herbicide.
AZ080010 | 100 | Solicam DF Herbicide.
AZ080014 | 66222 | Mana Alias 4F.
CA060001 | 66222 | Galigan 2E Oxyfluorfen Herbicide.
CA090001 | 71512 | Beleaf 50SG Insecticide.
CA100002 | 5481 | ABBA 0.15EC.
CA120001 | 100 | Subdue Maxx.
CA140005 | 100 | Micora.
FL110012 | 100 | Subdue Maxx.
FL170003 | 71711 | Tolfenpyrad 15 EC Insecticide.
GA170001 | 7969 | Engenia Herbicide.
HI040003 | 264 | Provado 1.6 Flowable Insecticide.
HI100002 | 264 | Provado 1.6 Flowable Insecticide.
HI100005 | 264 | Ethrel Brand Ethephon Plant Regulator.
IA100001 | 279 | Mustang Max Insecticide.
IA130001 | 279 | Mustang Maxx.
IA180003 | 7969 | Engenia Herbicide.
ID040003 | 100 | Fusilade Dx Herbicide.
ID060023 | 66222 | Fanfare 2EC.
ID060024 | 66222 | Fanfare 2EC.
ID070014 | 71512 | Beleaf 50SG Insecticide.
ID150003 | 279 | Capture LFR Soil Insecticide.
IL100002 | 279 | Mustang Max Insecticide.
IL130001 | 279 | Mustang Maxx.
KS130002 | 66222 | Mana Atrazine 90DF.
KS990005 | 10163 | Treflan H.F.P.
KS990006 | 10163 | Treflan TR-10.
LA110004 | 279 | Mustang Insecticide.
LA120013 | 66222 | Parazone 3SL.
LA170001 | 7969 | Engenia Herbicide.
MI110008 | 59639 | Sureguard Herbicide.
MI120004 | 100 | Subdue Maxx.
MI140001 | 264 | Balance Flexx Herbicide.
MI140002 | 264 | Corvus Herbicide.
MN000001 | 100 | Dual Magnum Herbicide.
MN030009 | 279 | Nufos 4E.
MN050001 | 100 | Callisto.
MN060003 | 100 | Beacon.
MN090003 | 264 | Nortron Sc Herbicide.
MN100004 | 10163 | Treflan HFP.
MN110001 | 10163 | Moncut 70-DF.
MN180002 | 7969 | Engenia Herbicide.
MO050007 | 59639 | Valor Herbicide.
MO170003 | 7969 | Engenia Herbicide.
MO170004 | 352 | Dupont Fexapan Herbicide.
MO180001 | 7969 | Engenia Herbicide.
MS010006 | 4787 | Glyfos X-TRA.
MS010037 | 4787 | Glyfos Herbicide.
MS050003 | 71368 | Extra Credit 5 Systemic Herbicide.
MS130005 | 10163 | Malathion 8.
MT010002 | 10163 | Sonalan HFP.
MT060003 | 10163 | Sonalan 10G.
MT090003 | 71512 | Beleaf 50SG Insecticide.
MT150003 | 279 | Capture LFR Soil Insecticide.
NC110007 | 59639 | V-10137 1 EC (Herbicide).
NC120001 | 264 | Corvus Herbicide.
NC130004 | 61842 | Sectagon 42.
NC150001 | 66222 | Pyrimax 3.2 L Herbicide.
NC160001 | 264 | Sivanto 200 SL.
NC170002 | 7969 | Engenia Herbicide.
ND020013 | 4787 | Glyfos Herbicide.
ND030013 | 279 | Nufos 4E.
ND080003 | 228 | Nufarm Polaris.
ND110005 | 264 | Liberty 280 SL Herbicide.
ND130004 | 264 | Laudis Herbicide.
ND160001 | 9779 | Terranil 6L.
ND180001 | 7969 | Engenia Herbicide.
NE100001 | 279 | Mustang Max Insecticide.
NE100002 | 279 | Mustang Max Insecticide.
NE130002 | 352 | Dupont Basis Blend Herbicide.
NE150003 | 100 | Subdue Maxx.
NJ010002 | 71368 | Weedar 64 Broadleaf Herbicide.
NJ940006 | 71368 | Weedar 64 Broadleaf Herbicide.
NM100002 | 71512 | Beleaf 50SG Insecticide.
NV070007 | 71512 | Beleaf 50SG Insecticide.
NV100001 | 10163 | Moncut 70-DF.
NV900001 | 10163 | Treflan TR-10 Granules.
NV950001 | 10163 | Sonalan HFP.
NY150001 | 7969 | Merivon Xemium Brand Fungicide.
OR160011 | 279 | Exirel Insect Control.
PA150002 | 100 | Subdue Maxx.
SD080001 | 7969 | G-Max Lite Herbicide.
SD130007 | 264 | Laudis Herbicide.
SD150004 | 264 | SC 547 Herbicide.
TN180003 | 7969 | Engenia Herbicide.
TX030005 | 400 | Terramaster 4EC.
TX080001 | 279 | Brigade 2EC Insecticide/Miticide.
TX080020 | 400 | Firestorm.
TX080022 | 264 | Ethrel Brand Ethephon Plant Regulator.
TX150004 | 100 | Subdue Maxx.
TX930003 | 10163 | Treflan TR-10.
TX940005 | 400 | Comite II.
TX960012 | 10163 | Treflan H.F.P.
UT070007 | 71512 | Beleaf 50SG Insecticide.
UT140001 | 10163 | Onager 1E.
UT180003 | 100 | Gramoxone SL 2.0.
UT870002 | 10163 | Treflan TR-10 Granules.
UT900001 | 10163 | Treflan TR-10 Granules.
VA110004 | 264 | Balance Flexx Herbicide.
VA110005 | 264 | Corvus Herbicide.
VA130003 | 61842 | Sectagon 42.
VA150003 | 100 | Subdue Maxx.
WA000024 | 400 | Dimilin 2L.
WA020030 | 264 | Aliette WDG Fungicide.
WA040005 | 10163 | Onager 1E.
WA060007 | 66222 | Rimon 0.83 EC.
WA070013 | 71512 | Beleaf 50SG Insecticide.
WA090005 | 9779 | Simazine 4L.
WA150002 | 279 | Capture LFR Soil Insecticide.
WA900016 | 10163 | Treflan TR-10.
WA940018 | 10163 | Sonalan HFP.
WA980001 | 10163 | Gowan Cryolite Bait.
WI110002 | 71512 | Omega 500F.
WY030005 | 10163 | Sonalan HFP.
WY030006 | 100 | Fusilade DX Herbicide.
WY070004 | 400 | Acramite-4SC.
WY080007 | 400 | Firestorm.
WY080008 | 71512 | Beleaf 50SG Insecticide.
WY100004 | 400 | Dimilin 2L.
WY140004 | 66222 | Parazone 3SL.

Table 2 of this unit includes the names and addresses of record for all registrants of the products in Table 1 of this unit, in sequence by EPA company number. This number corresponds to the first part of the EPA registration numbers of the products listed in Table 1 of this unit.

Table 2—Registrants of Canceled Products
EPA company No. | Company name and address
100 | Syngenta Crop Protection, LLC, P.O. Box 18300, Greensboro, NC 27419.
228 | Nufarm Americas, Inc., 4020 Aerial Center Parkway, Suite 101, Morrisville, NC 27560.
264 | Bayer Cropscience LP, 800 N Linbergh Blvd., St. Louis, MO 63167.
279 | FMC Corporation, 2929 Walnut Street, Philadelphia, PA 19104.
352 | E. I. Du Pont de Nemours and Company, 9330 Zionsville Road, Indianapolis, IN 46268.
400 | MacDermid Agricultural Solutions, Inc., c/o Arysta Lifescience North America, LLC, 15401 Weston Parkway, Suite 150, Cary, NC 27513.
432 | Bayer Environmental Science, A Division of Bayer Cropscience LP, 5000 Centregreen Way, Suite 400, Cary, NC 27513.
707 | DDP Specialty Electronic Materials US 5, LLC, 200 Powder Mill Road—ESL 353, Wilmington, DE 19803.
1015 | Pyxis Regulatory Consulting, Inc., Agent for Douglas Products and Packaging Co., 4110 136th Street CT NW, Gig Harbor, WA 98332.
1258 | Arch Chemicals, Inc., 1200 Bluegrass Lakes Parkway, Alpharetta, GA 30004.
1381 | Winfield Solutions, LLC, P.O. Box 64589, St. Paul, MN 55164.
2792 | Decco US Post-Harvest, Inc., 1713 South California Avenue, Monrovia, CA 91016.
3008 | Koppers Performance Chemicals, Inc., 1016 Everee Inn Road, Griffin, GA 30224.
3282 | Reckitt Benckiser LLC, 399 Interpace Parkway, Parsippany, NJ 07054.
4787 | FMC Corporation, Agent for Cheminova A/S, 1735 Market Street, Philadelphia, PA 19103.
4822 | S.C. Johnson & Son, Inc., 1525 Howe Street, Racine, WI 53403.
5383 | Troy Chemical Corp., c/o. Troy Corporation, 8 Vreeland Road, Florham Park, NJ 07932.
5481 | AMVAC Chemical Corporation, 4695 MacArthur Court, Suite 1200, Newport Beach, CA 92660.
7969 | BASF Corporation, Agricultural Products, P.O. Box 13528, Research Triangle Park, NC 27709.
9198 | The Andersons, Inc., P.O. Box 119, Maumee, OH 43537.
9779 | Winfield Solutions, LLC, P.O. Box 64589, St. Paul, MN 55164.
10163 | Gowan Company, P.O. Box 5569, Yuma, AZ 85366.
10404 | LESCO, Inc., 1385 East 36th Street, Cleveland, OH 44114.
33270 | Winfield Solutions, LLC, P.O. Box 64589, St. Paul, MN 55164.
59639 | Valent U.S.A. Corporation, 1600 Riviera Avenue, Suite 200, Walnut Creek, CA 94596.
61842 | Pyxis Regulatory Consulting, Inc., Agent for Tessenderlo Kerley, Inc., 4110 136th Street CT NW, Gig Harbor, WA 98332.
66222 | Makhteshim Agan of North America, Inc., D/B/A Adama, 3120 Highwoods Blvd., Suite 100, Raleigh, NC 27604.
70299 | Biosafe Systems, LLC, 22 Meadow Street, East Hartford, CT 06108.
71368 | Nufarm, Inc., 4020 Aerial Center Parkway, Suite 101, Morrisville, NC 27560.
71512 | ISK Biosciences Corporation, 7470 Auburn Road, Suite A, Concord, OH 44077.
71711 | Nichino America, Inc., 4550 Linden Hill Road, Suite 501, Wilmington, DE 19808.
73049 | Valent Biosciences LLC, 870 Technology Way, Libertyville, IL 60048.
74849 | Innovative Water Care, LLC, D/B/A Advantis Technologies, 1400 Bluegrass Lakes Parkway, Alpharetta, GA 30004.
81824 | Pyxis Regulatory Consulting, Inc., Agent for Ensystex II, Inc., 4110 136th Street CT NW, Gig Harbor, WA 98332.
82957 | Pyxis Regulatory Consulting, Inc., Agent for Ensystex III, Inc., 4110 136th Street CT NW, Gig Harbor, WA 98332.
83222 | Winfield Solutions, LLC, P.O. Box 64589, St. Paul, MN 55164.
83923 | Pyxis Regulatory Consulting, Inc., Agent for Ensystex IV, Inc., 4110 136th Street CT NW, Gig Harbor, WA 98332.
85685 | Fourstar Microbial Products, LLC, 1501 East Woodfield Road, Suite 200 West, Schaumburg, IL 60173.
89168 | Liberty Crop Protection, LLC, 1880 Fall River Drive, #100, Loveland, CO 80538.
90330 | Pyxis Regulatory Consulting, Inc., Agent for US Raymat AG LLC, 4110 136th Street CT NW, Gig Harbor, WA 98332.
90745 | KRK Consulting LLC, Agent for RCS II Inc., 5807 Churchill Way, Medina, OH 44256.

Table 3 of this unit lists all the FIFRA section 3 and section 24(c) registrations which were canceled for non-payment of the 2019 maintenance fee. These registrations have been canceled by order on September 30, 2019 and without a hearing.

Table 3—FIFRA Section 3 and Section 24(c) Registrations Cancelled for Non-Payment of 2019 Maintenance Fee
Registration No. | Company No. | Product name
748-240 | 748 | Repak Dry Chlorinating Tablets.
748-284 | 748 | PITTABS—G65 Calcium Hypochlorite Tablets.
748-300 | 748 | PPG 70 Calcium Hypochlorite Tablets.
748-310 | 748 | ZAPPIT Lite.
1072-20 | 1072 | Precise.
1624-11 | 1624 | Polybor 3.
2749-575 | 2749 | Halomax Plus II Herbicide.
2781-53 | 2781 | Tri-Plex Spray.
3095-47 | 3095 | PIC Liquid Ant Bait Killer.
3546-37 | 3546 | Shoo-Fly Termite & Carpenter Ant Killer.
3546-40 | 3546 | Shoo-Fly Hornet Wasp Jet Bomb II.
7698-28 | 7698 | V.M.S. Rabon 7.76 Oral Larvicide Premix.
8281-4 | 8281 | Hormex Rooting Powder No. 30.
8730-75 | 8730 | Hercon Disrupt Bio-Flake GM.
8730-82 | 8730 | Disrupt Bio-GM+.
9386-10 | 9386 | AMA-35D.
11411-18 | 11411 | Leslie's Swimming Pool Supplies Standard Kit.
11411-19 | 11411 | Leslie's Swimming Pool Supplies Spa Maintenance Kit.
11411-20 | 11411 | Leslie's Swimming Pool Supplies Above-Ground Kit.
11411-21 | 11411 | Leslie's Swimming Pool Supplies Deluxe Kit.
11435-3 | 11435 | Copper Sulfate Liquid.
29909-1 | 29909 | Rid Flea and Tick Shampoo Concentration for Dogs and Cats.
29909-21 | 29909 | Cardinal Tick Terminator Flea & Tick Shampoo for Dogs & Cats.
34688-84 | 34688 | Peroxy-Blend S/D.
34810-18 | 34810 | Thymo-Cide.
35896-20 | 35896 | Copper Sulfate Pentahydrate.
39775-4 | 39775 | Messina Wildlife's Mole Stopper Smoke.
39924-3 | 39924 | Universal Chemicals Sodium Hypochlorite Solution.
43813-19 | 43813 | Wocosen 100SL.
45337-7 | 45337 | Spring Treat Algicide.
46579-8 | 46579 | Pyra-Fog 3-6-10.
48222-12 | 48222 | Sysstem ZN.
49620-7 | 49620 | EKA SC BC 100.
49620-10 | 49620 | EKA SC BC 47.
50233-1 | 50233 | Polar Pure.
50584-5 | 50584 | Pro-Treat 151 Pan Treatment.
50600-9 | 50600 | G.W. Sani-Clean.
53575-43 | 53575 | Isomate CM Mist Eco.
53575-44 | 53575 | Isomate CM/OFM Mist.
54287-13 | 54287 | Deet Plus Composite Insect Spray II.
57242-6 | 57242 | Gladeamine 4.
57538-19 | 57538 | Vigor S.
57538-30 | 57538 | Green Keeper.
57538-58 | 57538 | N-Large Plus.
57538-59 | 57538 | N-Large Premier Plus.
57787-14 | 57787 | Crystal Shock.
58232-1 | 58232 | IV Chlorinating Liquid.
60061-10 | 60061 | Pettit Marine Paint Premium Line Super Premium Performance Antifouling Finish 1290 Blue.
60061-12 | 60061 | Woolsey/Z*Spar Super Tox Anti-Fouling Finish B-70 Red.
60061-79 | 60061 | Pettit Marine Paint ACP-50 Ablative Copper Polymer Antifouling Bottom Paint.
60061-95 | 60061 | Pettit Marine Paint Trinidad SR Antifouling Paint.
60061-118 | 60061 | Pettit Marine Paint Alumacoat + Antifouling Paint.
62637-8 | 62637 | BMP 123 (10G).
62637-10 | 62637 | BMP 123 (64ES).
62637-11 | 62637 | BMP 144 DF.
62637-12 | 62637 | BMP 144 DFX.
64429-20001 | 64429 | Sodium Hypochlorite.
64820-1 | 64820 | Core.
65527-1 | 65527 | Flea Stoppers Carpet Powder.
65723-3 | 65723 | ACT 90 Chlorinating Tablets.
65723-5 | 65723 | ACT 90 Granular.
66524-2 | 66524 | NoMix Grass and Weed I Herbicide.
67071-15 | 67071 | Acticide PM Flowable.
67071-17 | 67071 | Acticide SR-1216/6.
67071-24 | 67071 | Acticide BW 10.
67071-25 | 67071 | Acticide B10.
67071-39 | 67071 | Thor GMBH Acticide PAX.
67071-67 | 67071 | Acticide IPW 50.
67071-69 | 67071 | Acticide 45-WD.
67071-70 | 67071 | Acticide 14-WD.
67071-71 | 67071 | Acticide MBZ-F.
67071-80 | 67071 | Acticide SR 9069.
68868-4 | 68868 | Surcide ICP.
69096-3 | 69096 | Biotect.
69340-8 | 69340 | AN6006.
69587-4 | 69587 | Wolman F&P Premium Wood Finish & Preservative.
69587-5 | 69587 | Wolman(R) F&P Premium Wood Finish and Preservative.
70258-4 | 70258 | Sani-Pure Sanitizer and Cleaner.
70504-1 | 70504 | Algae Ban.
71410-3 | 71410 | Croc Bloc Insect Repellent Towelette.
71814-1 | 71814 | Stercid.
72336-1 | 72336 | Nosquito by Stinger 2-in-1 Power Bait.
72437-4 | 72437 | Stellar 75 Tabs.
72977-6 | 72977 | SDC0240CP.
73667-6 | 73667 | MB 2001 G.
73745-1 | 73745 | SG Tube.
73771-3 | 73771 | Fluorescens Technical.
74468-6 | 74468 | Pre-Amine 0.22% Plus.
74468-7 | 74468 | Pre-Amine 0.30 Plus.
74468-13 | 74468 | Metsulfuron-Methyl Technical.
74655-25 | 74655 | Biosperse 3001 Microbiocide.
74693-1 | 74693 | Scent-Off Aroma Pouches.
74693-2 | 74693 | Scent-Off Pellets.
74693-3 | 74693 | JT Eaton Answer the Liquid Bait System with Activator.
74779-16 | 74779 | BACASTAT 4.3.
81041-1 | 81041 | Expel.
81927-34 | 81927 | Alligare Glyphosate 4.
81927-49 | 81927 | Alligare Prodiamine 4L.
81927-50 | 81927 | Alligare Fluridone Granule.
81927-51 | 81927 | Alligare Fluridone RTU.
81927-56 | 81927 | Triclopyr 3 SL.
81927-59 | 81927 | Alligare Atrazine 4L.
81927-70 | 81927 | Picloram K-Salt Rangeland.
81927-71 | 81927 | Picloram + 2,4-D Rangeland.
81927-72 | 81927 | Picloram K-Salt IVM.
81927-73 | 81927 | Picloram + 2,4-D IVM.
82397-1 | 82397 | Chem Fish Regular.
82397-4 | 82397 | Chem Sect Brand Rotenone Resins.
82397-5 | 82397 | Cube Powder Fish Toxicant.
82437-5 | 82437 | K & W Paclo 0.4% L.
82481-1 | 82481 | Unicorn Thermal Marine Coating Anti-Fouling Plastic.
83189-1 | 83189 | TechFilter.
83411-1 | 83411 | Clean Field 41% Plus.
83676-3 | 83676 | 4 Day Killer.
83831-1 | 83831 | Surface Disinfectant Plus.
84178-2 | 84178 | DeerPro Deer Repellent.
84178-3 | 84178 | DeerPro Deer Repellent Concentrate.
84396-12 | 84396 | Sungro Residual Spray.
84545-8 | 84545 | Steriplex Ultra (Part A).
84545-9 | 84545 | Steriplex Ultra Activator Part B.
85341-1 | 85341 | Revere Antimicrobial Copper.
85724-5 | 85724 | Rock 500 SC.
86145-5 | 86145 | Magnolia Black Algaecide.
86145-6 | 86145 | Magnolia Chlorinating Granules.
86145-7 | 86145 | Magnolia 1″ or 3″ Chlorinating Tablets.
86282-3 | 86282 | Planet Breeze S.
87273-4 | 87273 | Pro Chlor Tabs.
87357-1 | 87357 | Anti-Pest-O Concentrate.
87357-2 | 87357 | Anti-Pest-O RTU.
88259-1 | 88259 | Chemicals International Chlorinating Tablets.
88259-2 | 88259 | Trichlor Shock.
88279-1 | 88279 | Dismate PE.
88279-2 | 88279 | Fytomax AZA 3% EC.
88346-6 | 88346 | Pooline Superchlor Shock 70.
88373-2 | 88373 | 525 TBD.
88599-1 | 88599 | Livewell Filter.
88863-2 | 88863 | Grasstopper.
88943-4 | 88943 | Spraytex M Agricultural Spray Oil.
88951-4 | 88951 | Panax 500 15.
88951-5 | 88951 | Panax 500 45.
89174-1 | 89174 | Handstands Cleaner Spray.
89174-2 | 89174 | Handstands Cleaner Wipes.
89174-3 | 89174 | Handstands High Shine Protectant Spray.
89174-4 | 89174 | Handstands High Shine Protectant Wipes.
90748-4 | 90748 | Spectrakill-M.
90881-1 | 90881 | Novabella Bleach Crystal Formula 93542 Hard Surface Disinfectant Cleaner.
90927-1 | 90927 | Last Treats.
91090-3 | 91090 | Neove Spot On #001 for Dogs.
91282-2 | 91282 | Iomax Recharge.
91411-5 | 91411 | Kocide 4.5 LF.
91411-6 | 91411 | Kocide DF.
91543-2 | 91543 | 2,4-D Amine Weed Killer.
91543-3 | 91543 | 2,4-D LO-V Ester Weed Killer.
91570-1 | 91570 | Skin Technology Insect Repellent Spray.
91577-2 | 91577 | Mopack 5.25%.
91586-1 | 91586 | Justifly 0.04% Diflubenzuron Larvicide Premix.
91853-2 | 91853 | Sodium Percarbonate Technical.
91853-4 | 91853 | Neo-Boost.
91974-1 | 91974 | Seven Star Moth Balls.
92115-1 | 92115 | FBN Paraquat 3L.
92115-3 | 92115 | FBN Glufosinate 2.34SL.
92115-7 | 92115 | FBN Dicamba 4DMA.
92115-9 | 92115 | FBN 2800.
92115-13 | 92115 | FBN 400.
92115-14 | 92115 | FBN 40.
92115-15 | 92115 | FBN 234.
92115-16 | 92115 | FBN 28.
92115-17 | 92115 | FBN 280.
92206-3 | 92206 | 5000 TBD.
92427-1 | 92427 | Larvanator ALD-365 Refill Packet.
92534-1 | 92534 | Cavalletta.
92534-2 | 92534 | Coperta XCEL.
92629-2 | 92629 | Rotstar.
92629-4 | 92629 | Viola CS.
92629-5 | 92629 | Questar.
93373-1 | 93373 | Bodyguard Insect Repellent 20% Cream.
93373-2 | 93373 | Bodyguard Insect Repellent 20% Spray.
FL140005 | 71096 | Slug-Fest All Weather Formula.
NJ140004 | 39924 | Universal Chemicals Sodium Hypochlorite Solution.

IV. Summary of Public Comments Received and Agency Response to Comments

During the public comment period provided, EPA received one comment in response to the September 23, 2019 Federal Register notice announcing the Agency's receipt of the requests for voluntary cancellations of products listed in Table 1 of Unit III. The comment was from FMC Corporation requesting that EPA Reg. No. WA070015 and WA070017 be retained because the voluntary cancellation requests were made in error. As a result of this comment, the Agency is retaining the registration of EPA Reg. Nos. WA070015 and WA070017.

V. Cancellation Order

Pursuant to FIFRA section 6(f) (7 U.S.C. 136d(f)), EPA hereby approves the requested cancellations of the registrations identified in Table 1 of Unit III. Accordingly, the Agency hereby orders that the product registrations identified in Table 1 of Unit III. are canceled. The effective date of the cancellations that are the subject of this notice is February 4, 2020. Any distribution, sale, or use of existing stocks of the products identified in Table 1 of Unit III. in a manner inconsistent with any of the provisions for disposition of existing stocks set forth in Unit VII. will be a violation of FIFRA.

VI. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of September 23, 2019. The comment period closed on October 23, 2019.

VII. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until January 15, 2020, or the date of publication of this FR notice, whichever is later. Thereafter, the registrants are prohibited from selling or distributing products listed in Table 1, except for export in accordance with FIFRA section 17 (7 U.S.C. 136o), or proper disposal. Persons other than the registrants may sell, distribute, or use existing stocks of products listed in Table 1 of Unit III. until existing stocks are exhausted, provided that such sale, distribution, or use is consistent with the terms of the previously approved labeling on, or that accompanied, the canceled products.

Authority: 7 U.S.C. 136 et seq.

Dated: December 18, 2019.
Delores Barber,
Director, Information Technology and Resources Management Division, Office of Pesticide Programs.

[FR Doc. 2020-02047 Filed 2-3-20; 8:45 am]

BILLING CODE 6560-50-P